DEPARTMENT OF ENERGY

Federal Energy Regulatory Commission

Notice of Effectiveness of Exempt Wholesale Generator Status

| Docket Nos.
Ninnescah Flats Solar, LLC | EG25-274-000.
Blevins Storage, LLC | EG25-275-000.
Blevins Solar LLC | EG25-276-000.
Cross Trails Energy Storage Project, LLC | EG25-277-000.
Swift Air Solar II, LLC | EG25-278-000.
Swift Air Solar III, LLC | EG25-279-000.
White Tail Solar, LLC | EG25-280-000.
Hermes BESS LLC | EG25-281-000.
Shelby Onsite Generation, LLC | EG25-282-000.
TES MAS23 Energy Storage, LLC | EG25-283-000.
Pine Forest Solar I, LLC | EG25-284-000.
Pine Forest Hybrid I, LLC | EG25-285-000.
Brazoria Solar I, LLC | EG25-286-000.
Pitt Solar, LLC | EG25-287-000.
Clinton Solar LLC | EG25-288-000.
BDPU Solar Tormes LLC | EG25-289-000.
Stillhouse Solar LLC | EG25-290-000.
Great Bend Solar, LLC | EG25-292-000.
ER Nava Storage, LLC | EG25-293-000.
ER South Street Storage, LLC | EG25-294-000.
Enbridge Solar (Sequoia I), LLC | EG25-295-000.
SMT Dallas LLC | EG25-296-000.
SMT Dallas III LLC | EG25-297-000.
SMT Dallas VII LLC | EG25-298-000.
SMT Houston V LLC | EG25-299-000.
SMT Houston VII LLC | EG25-300-000.
SMT Houston XIV LLC | EG25-301-000.
Bypass BESS LLC | EG25-302-000.
Shallow Basket Energy, LLC | EG25-303-000.
Mountain Peak Power, LLC | EG25-304-000.
Shallow Basket Energy, LLC | EG25-305-000.
Oak Hill Solar LLC | EG25-306-000.
AE-ESS Holyoke, LLC | EG25-307-000.
Cascade BESS LLC | EG25-308-000.
Sierra BESS LLC | EG25-309-000.

Take notice that during the month of June 2025, the status of the above-captioned entities as Exempt Wholesale Generators became effective by operation of the Commission's regulations. 18 CFR 366.7(a) (2024).

Dated: July 2, 2025.
Debbie-Anne A. Reese,
Secretary.

[FR Doc. 2025-12649 Filed 7-7-25; 8:45 am]

BILLING CODE 6717-01-P